DEPARTMENT OF DEFENSE

Office of the Secretary

Defense Science Board Task Force on Logistics Transformation Phase II; Notice of Meeting

SUMMARY: The Defense Science Board Task Force on Logistics Transformation Phase II was held in closed session on November 15-16, 2000, at SAIC, 4001 N. Fairfax Drive, Suite 500, Arlington, VA 22203.

The mission of the Defense Science Board is to advise the Secretary of Defense and the Under Secretary of Defense for Acquisition and Technology on scientific and technical matters as they affect the perceived needs of the Department of Defense. At this meeting, the Task Force will review and evaluate DoD's progress on the transformation of the DoD logistics system. In addition, the Task Force will review future plans and programs to determine their compliance with the recommendations contained in the 1998 DSB report on DoD Logistics Transformation; determine the nature of barriers inhibiting the rapid transformation of the system, paying particular attention to technical, legal, and operational issues; and determining if any future implementation actions are required.

Due to critical mission requirements, there is insufficient time to provide timely notice required by Section 10(a)(2) of the Federal Advisory Committee Act and Subsection 101-6.1015(b) of the GSA Final Rule on Federal Advisory Committee Management, 41 CFR Part 101-6, which further requires publication at least 15 calendar days prior to the meeting of the Task Force on November 15-16, 2000.

Persons interested in further information should call Commander Brian D. Hughes, USN, at (703) 695-4157.

Dated: November 16, 2000.
L.M. Bynum,
Alternate OSD Federal Register Liaison Officer, Department of Defense.

[FR Doc. 00-29934 Filed 11-22-00; 8:45 am]

BILLING CODE 5001-10-M